DEPARTMENT OF THE INTERIOR

Bureau of Land Management

[NV-030-00-1020-24]

Mojave Southern Great Basin Resource Advisory Council; Notice of Meeting Location and Time

AGENCY: Bureau of Land Management, Interior.

ACTION: Notice of meeting location and time for the Mojave Southern Great Basin Resource Advisory Council (Nevada).

SUMMARY: In accordance with the Federal Land Policy and Management Act and the Federal Advisory Committee Act of 1972 (FACA), the U.S. Department of the Interior, Bureau of Land Management (BLM) Mojave Southern Great Basin Resource Advisory Council (RAC), Nevada, will be held as indicated below. Topics for discussion will include managers' reports of field office activities; an update on the Southern Nevada Public Land Management Act of 1998; and other topics the council may raise.

All meetings are open to the public. The public may present written and/or oral comments to the council. Individuals who need special assistance such as sign language interpretation or other reasonable accommodations should contact Phillip Guerrero at (702) 515-5046.

Date and Time: The RAC will meet January 9 and 10, 2003, April 3 and 4, 2003, June 19-21, 2003, and September 4 and 5, 2003. Please contact Phillip Guerrero RAC coordinator for specific times and locations, as the meetings move throughout the year. Contact Mr. Guerrero at 702-515-5046.

FOR FURTHER INFORMATION CONTACT: Phillip L. Guerrero, Public Affairs Officer, BLM Las Vegas Field Office, 4701 North Torrey Pines Drive, Las Vegas NV 89130-2301, or by phone at (702) 515-5046.

Dated: November 1, 2002.
Phillip L. Guerrero,
Public Affairs Officer, Las Vegas Field Office.

[FR Doc. 02-28899 Filed 11-15-02; 8:45 am]

BILLING CODE 4310-HC-M